DEPARTMENT OF ENERGY

Federal Energy Regulatory Commission

Combined Notice of Filings #1

Take notice that the Commission received the following electric corporate filings:

Docket Numbers: EC17-44-000.

Applicants: JPM Capital Corporation, HA Wind IV LLC.

Description: Application of JPM Capital Corporation and HA Wind IV LLC for Approval Under Section 203 of the Federal Power Act.

Filed Date: 12/12/16.

Accession Number: 20161212-5136.

Comments Due: 5 p.m. ET 1/3/17.

Docket Numbers: EC17-45-000.

Applicants: American Transmission Company LLC.

Description: Application of American Transmission Company LLC for Authority to Acquire Certain Facilities Under Section 203 of the FPA.

Filed Date: 12/12/16.

Accession Number: 20161212-5174.

Comments Due: 5 p.m. ET 1/3/17.

Take notice that the Commission received the following electric rate filings:

Docket Numbers: ER10-2881-014; ER10-2641-014; ER10-2663-014; ER10-2882-014; ER10-2883-014; ER10-2884-014; ER10-2885-014; ER10-2886-014; ER13-1101-009; ER13-1541-008; ER14-787-002; EL15-39-000.

Applicants: Alabama Power Company.

Description: Motion to Supplement July 7, 2016 Technical Conference Reply Comments of Southern Company Services, Inc.

Filed Date: 12/12/16.

Accession Number: 20161212-5066.

Comments Due: 5 p.m. ET 1/3/17.

Docket Numbers: ER15-1579-006.

Applicants: 67RK 8me LLC.

Description: Compliance filing: 67RK 8me LLC MBR Tariff to be effective 12/13/2016.

Filed Date: 12/12/16.

Accession Number: 20161212-5133.

Comments Due: 5 p.m. ET 1/3/17.

Docket Numbers: ER15-1582-007.

Applicants: 65HK 8me LLC.

Description: Compliance filing: 65HK 8me LLC MBR Tariff to be effective 12/13/2016.

Filed Date: 12/12/16.

Accession Number: 20161212-5140.

Comments Due: 5 p.m. ET 1/3/17.

Docket Numbers: ER15-1914-008.

Applicants: 87RL 8me LLC.

Description: Compliance filing: 87RL 8me LLC MBR Tariff to be effective 12/13/2016.

Filed Date: 12/12/16.

Accession Number: 20161212-5135.

Comments Due: 5 p.m. ET 1/3/17.

Docket Numbers: ER15-2680-004.

Applicants: Sandstone Solar LLC.

Description: Compliance filing: Sandstone Solar LLC MBR Tariff to be effective 12/13/2016.

Filed Date: 12/12/16.

Accession Number: 20161212-5141.

Comments Due: 5 p.m. ET 1/3/17.

Docket Numbers: ER15-760-007.

Applicants: Western Antelope Blue Sky Ranch A LLC.

Description: Compliance filing: Western Antelope Blue Sky Ranch A LLC MBR Tariff to be effective 12/13/2016.

Filed Date: 12/12/16.

Accession Number: 20161212-5131.

Comments Due: 5 p.m. ET 1/3/17.

Docket Numbers: ER15-762-008.

Applicants: Sierra Solar Greenworks LLC.

Description: Compliance filing: Sierra Solar Greenworks LLC MBR Tariff to be effective 12/13/2016.

Filed Date: 12/12/16.

Accession Number: 20161212-5130.

Comments Due: 5 p.m. ET 1/3/17.

Docket Numbers: ER16-468-002.

Applicants: FTS Master Tenant 1, LLC.

Description: Compliance filing: FTS Master Tenant 1 LLC MBR Tariff to be effective 12/13/2016.

Filed Date: 12/12/16.

Accession Number: 20161212-5132.

Comments Due: 5 p.m. ET 1/3/17.

Docket Numbers: ER16-474-003.

Applicants: Central Antelope Dry Ranch C LLC.

Description: Compliance filing: Central Antelope Dry Ranch C LLC MBR Tariff to be effective 12/13/2016.

Filed Date: 12/12/16.

Accession Number: 20161212-5149.

Comments Due: 5 p.m. ET 1/3/17.

Docket Numbers: ER16-890-003.

Applicants: Summer Solar LLC.

Description: Compliance filing: Summer Solar LLC MBR Tariff to be effective 12/13/2016.

Filed Date: 12/12/16.

Accession Number: 20161212-5158.

Comments Due: 5 p.m. ET 1/3/17.

Docket Numbers: ER16-1255-002.

Applicants: Antelope Big Sky Ranch LLC.

Description: Compliance filing: Antelope Big Sky Ranch LLC MBR Tariff to be effective 12/13/2016.

Filed Date: 12/12/16.

Accession Number: 20161212-5166.

Comments Due: 5 p.m. ET 1/3/17.

Docket Numbers: ER16-1738-002.

Applicants: Beacon Solar 4, LLC.

Description: Compliance filing: Beacon Solar 4, LLC MBR Tariff to be effective 12/13/2016.

Filed Date: 12/12/16.

Accession Number: 20161212-5177.

Comments Due: 5 p.m. ET 1/3/17.

Docket Numbers: ER16-1901-002.

Applicants: Elevation Solar C LLC.

Description: Compliance filing: Elevation Solar C LLC MBR Tariff to be effective 12/13/2016.

Filed Date: 12/12/16.

Accession Number: 20161212-5168.

Comments Due: 5 p.m. ET 1/3/17.

Docket Numbers: ER16-1955-002.

Applicants: Antelope DSR 2, LLC.

Description: Compliance filing: Antelope DSR 2, LLC MBR Tariff to be effective 12/13/2016.

Filed Date: 12/12/16.

Accession Number: 20161212-5172.

Comments Due: 5 p.m. ET 1/3/17.

Docket Numbers: ER16-1956-002.

Applicants: Western Antelope Dry Ranch LLC.

Description: Compliance filing: Western Antelope Dry Ranch LLC MBR Tariff to be effective 12/13/2016.

Filed Date: 12/12/16.

Accession Number: 20161212-5170.

Comments Due: 5 p.m. ET 1/3/17.

Docket Numbers: ER16-1973-002.

Applicants: Western Antelope Blue Sky Ranch B LLC.

Description: Compliance filing: Western Antelope Blue Sky Ranch B LLC MBR Tariff to be effective 12/13/2016.

Filed Date: 12/12/16.

Accession Number: 20161212-5169.

Comments Due: 5 p.m. ET 1/3/17.

Docket Numbers: ER16-2201-001.

Applicants: Antelope DSR 1, LLC.

Description: Compliance filing: Antelope DSR 1, LLC MBR Tariff to be effective 12/13/2016.

Filed Date: 12/12/16.

Accession Number: 20161212-5173.

Comments Due: 5 p.m. ET 1/3/17.

Docket Numbers: ER16-2224-001.

Applicants: Solverde 1, LLC.

Description: Compliance filing: Solverde 1, LLC MBR Tariff to be effective 12/13/2016.

Filed Date: 12/12/16.

Accession Number: 20161212-5175.

Comments Due: 5 p.m. ET 1/3/17.

Docket Numbers: ER16-2578-001.

Applicants: North Lancaster Ranch LLC.

Description: Compliance filing: North Lancaster Ranch LLC MBR Tariff to be effective 12/13/2016.

Filed Date: 12/12/16.

Accession Number: 20161212-5176.

Comments Due: 5 p.m. ET 1/3/17.

Docket Numbers: ER16-2703-000.

Applicants: Deerfield Wind Energy, LLC.

Description: Third Supplement to September 29, 2016 Deerfield Wind Energy, LLC tariff filing.

Filed Date: 12/9/16.

Accession Number: 20161209-5241.

Comments Due: 5 p.m. ET 12/19/16.

Docket Numbers: ER17-186-001.

Applicants: Upper Michigan Energy Resources Corporation.

Description: Tariff Amendment: Revised UMERC to Ontonagon Rate Schedule No 5 12.12.16 to be effective 1/1/2017.

Filed Date: 12/12/16.

Accession Number: 20161212-5089.

Comments Due: 5 p.m. ET 1/3/17.

Docket Numbers: ER17-186-001.

Applicants: Upper Michigan Energy Resources Corporation.

Description: Tariff Amendment: Revised UMERC to Ontonagon Rate Schedule No 5 12.12.16 to be effective 1/1/2017.

Filed Date: 12/12/16.

Accession Number: 20161212-5089.

Comments Due: 5 p.m. ET 1/3/17.

Docket Numbers: ER17-519-000.

Applicants: Southern California Edison Company.

Description: § 205(d) Rate Filing: Filing of GIA and amended DSA for the Grapeland EGT Project to be effective. 12/12/2016.

Filed Date: 12/9/16.

Accession Number: 20161209-5197.

Comments Due: 5 p.m. ET 12/30/16.

Docket Numbers: ER17-520-000.

Applicants: Southwest Power Pool, Inc.

Description: § 205(d) Rate Filing: Revisions to Attachment AE Section 8.6.7 Regarding Resources Dispatched to Zero to be effective 3/1/2017.

Filed Date: 12/9/16.

Accession Number: 20161209-5198.

Comments Due: 5 p.m. ET 12/30/16.

Docket Numbers: ER17-521-000.

Applicants: PJM Interconnection, L.L.C.

Description: § 205(d) Rate Filing: Queue Position AB2-058, Original Interconnection Service Agreement No. 4566 to be effective 11/15/2016.

Filed Date: 12/12/16.

Accession Number: 20161212-5071.

Comments Due: 5 p.m. ET 1/3/17.

Docket Numbers: ER17-522-000.

Applicants: Midcontinent Independent System Operator, Inc.

Description: § 205(d) Rate Filing: 2016-12-12_SA 2896 METC-WPSC 2nd Rev. GIA (J392) to be effective 12/13/2016.

Filed Date: 12/12/16.

Accession Number: 20161212-5101.

Comments Due: 5 p.m. ET 1/3/17.

Docket Numbers: ER17-523-000.

Applicants: Boulder Solar Power, LLC.

Description: § 205(d) Rate Filing: Amendment of Boulder Solar Market-Based Rate Tariff to be effective 12/13/2016.

Filed Date: 12/12/16.

Accession Number: 20161212-5139.

Comments Due: 5 p.m. ET 1/3/17.

Docket Numbers: ER17-524-000.

Applicants: Southwest Power Pool, Inc.

Description: § 205(d) Rate Filing: 2014 Southwestern Power Administration Amendatory Agreement Fifth Extension to be effective 12/1/2016.

Filed Date: 12/12/16.

Accession Number: 20161212-5142.

Comments Due: 5 p.m. ET 1/3/17.

Docket Numbers: ER17-525-000.

Applicants: Southern California Edison Company.

Description: § 205(d) Rate Filing: Amended IFA Citrus Pump Station Project WDT322 SA No. 471 to be effective 12/13/2016.

Filed Date: 12/12/16.

Accession Number: 20161212-5171.

Comments Due: 5 p.m. ET 1/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2016.
Nathaniel J. Davis, Sr.,
Deputy Secretary.

[FR Doc. 2016-30397 Filed 12-16-16; 8:45 am]

BILLING CODE 6717-01-P